DEPARTMENT OF ENERGY

Federal Energy Regulatory Commission

[Docket No. CP05-403-000]

Dominion Transmission, Inc.; Notice of Filing

August 24, 2005.

Take notice that on August 16, 2005, Dominion Transmission, Inc. (DTI), 120 Tredegar Street, Richmond, Virginia 23219, filed an abbreviated application, pursuant to section 7(b) of the Natural Gas Act (NGA) and part 157 of the Commission's Rules and Regulations, for an order permitting DTI to reclassify a compressor station, from transmission to gathering, exempt from the Commission's jurisdiction under section 1(b) of the NGA. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

A recent review by DTI of its transmission and gathering systems in the Barbour County, West Virginia area revealed that changes in the gathering system had resulted in Pepper Station now exclusively serving a gathering function. DTI seeks to reclassify the Pepper Station as a gathering facility. Pepper Station is located in Barbour County, West Virginia. The proposed reclassification will have no environmental impact because no facilities will be removed or modified.

Any questions regarding the application are to be directed to Karin L. Larson, Hogan & Hartson L.L.P., 555 13th Street, NW., Washington, DC 20004; phone number (202) 637-6861.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: September 14, 2005.

Magalie R. Salas,
Secretary.

[FR Doc. E5-4748 Filed 8-30-05; 8:45 am]

BILLING CODE 6717-01-P